CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its Process and Impact Evaluation of the Minnesota Reading Corps. This project will assess the effect of the Minnesota Reading Corps on the literacy outcomes of students enrolled in their Pre-Kindergarten program and the personal and professional goals of AmeriCorps members serving in the program. Copies of the information collection request can be obtained by contacting the office listed in the addresses section of this notice.

DATES: Written comments must be submitted to the individual and office listed in the ADDRESSES section by April 22, 2013.

ADDRESSES: You may submit comments, identified by the title of the information collection activity, by any of the following methods:

(1) By mail sent to: Corporation for National and Community Service, Office of Research and Evaluation; Attention: Scott Richardson, Research Analyst; 1201 New York Avenue NW., Washington, DC 20525.

(2) By hand delivery or by courier to the mail address given in paragraph (1) above, between 9:00 a.m. and 4:00 p.m. Eastern Time, Monday through Friday, except Federal holidays.

(3) By fax to: (202) 606-3477, Attention Scott Richardson, Research Analyst.

(4) Electronically through www.regulations.gov. Individuals who use a telecommunications device for the deaf (TTY-TDD) may call 1-800-833-3722 between 8:00 a.m. and 8:00 p.m. Eastern Time, Monday through Friday.

FOR FURTHER INFORMATION CONTACT: Scott Richardson, (202) 606-6903, or by email at srichardson@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Emergent literacy achievement data will be collected from preschool students enrolled at select Minnesota preschools at three time points (i.e., fall, winter, and spring) during the 2013-2014 school years. The Individual Growth and Development Indicators (IGDI) assessment will be used to collect achievement data on five critical emergent literacy skills: rhyming, picture naming, alliteration, letter name fluency, and letter sound fluency. The IGDI assessment is a research-validated and reliable tool that measures growth in each of these skills over time. Data from the assessment will be used to measure the impact of preschool instruction on students in the Minnesota Reading Corps program.

Information also will be collected, via survey, from individuals who served as tutors in the Minnesota Reading Corps for the 2012-2013 school years. This survey will be a follow-up data collection effort to a baseline survey conducted September through December of 2012. The survey will assess the effects of service in Minnesota Reading Corps on members' personal and professional goals, as well as program satisfaction, education, employment, and civic engagement.

Current Action

CNCS seeks to renew the current information collection. The information collection will otherwise be used in the same manner as the existing application. CNCS also seeks to continue using the current application until the revised application is approved by OMB. The current application is due to expire on September 30, 2015.

Type of Review: Renewal.

Agency: Corporation for National and Community Service.

Title: Process Assessment and Impact Evaluation of the Minnesota Reading Corps.

OMB Number: 3045-0144.

Agency Number: None.

Affected Public: Pre-Kindergarten students enrolled in select Minnesota schools and individuals who served as tutors in the Minnesota Reading Corps.

Total Respondents for student assessments: 1,440.

Frequency for students: Three.

Average Time per Response for students: Seven minutes.

Total Respondents for member survey: 1,031.

Frequency for members: Once.

Average Time per Response for members: 20 minutes.

Estimated Total Burden Hours: 848 hours.

Total Burden Cost (capital/startup): None.

Total Burden Cost (operating/maintenance): None.

Comments submitted in response to this notice will be summarized and/or included in the request for Office of Management and Budget approval of the information collection request; they will also become a matter of public record.

Dated: February 14, 2013.
Christopher Spera,
Director, Office of Research and Evaluation.

[FR Doc. 2013-03997 Filed 2-20-13; 8:45 am]

BILLING CODE 6050-$$-P